DEPARTMENT OF TRANSPORTATION

Federal Railroad Administration

[Docket Number FRA-2005-21015]

Central New York Railroad Corporation, Norfolk Southern Corporation, and New York, Susquehanna and Western Railway Corporation; Notice of Public Hearing and Extension of Comment Period

The Central New York Railroad Corporation, Norfolk Southern Corporation, and New York, Susquehanna and Western Railway Corporation have jointly petitioned the Federal Railroad Administration (FRA) seeking approval of the proposed discontinuance and removal of the interlocking, automatic block signal, and traffic control systems, on the single and double main tracks, between CP Sparrow Bush, milepost 89.9, near Port Jervis, New York, and, CP BD, milepost 213.0, near Binghamton, New York, a distant of approximately 123 miles. This block signal application proceeding is identified as Docket Number FRA-2005-21015.

FRA has issued a public notice seeking comments of interested parties and is conducting its own field investigation in this matter. However, after examining the carrier's proposal and numerous letters of comments from interested parties; FRA has determined that a public hearing is necessary before a final decision is made on this proposal. FRA is also extending the comment period to one week beyond the date of the public hearing. If information received at the public hearing warrants the need to extend the comment period further, a separate notice will be published indicating such extension.

Accordingly, a public hearing is hereby set for 9 a.m. daylight-saving time, on Wednesday, September 28, 2005, in Conference Room 1, on the 18th floor, of the State Office Building, at 44 Hawley Street, in Binghamton, New York 13901. Interested parties are invited to present oral statements at the hearing.

The hearing will be an informal one and will be conducted in accordance with Rule 25 of the FRA Rules of Practice (49 CFR part 211.25), by a representative designated by the FRA.

The hearing will be a non adversary proceeding and, therefore, there will be no cross-examination of persons presenting statements. The FRA representative will make an opening statement outlining the scope of the hearing. After all initial statements have been completed, those persons wishing to make brief rebuttal statements will be given the opportunity to do so in the same order in which they made their initial statements. Additional procedures, if necessary for the conduct of the hearing, will be announced at the hearing.

In addition, FRA is extending the comment period to October 5, 2005. All communications concerning these proceedings should identify the appropriate docket number (e.g., Waiver Petition Docket Number FRA-2005-21015) and must be submitted to the Docket Clerk, DOT Docket Management Facility, Room PL-401 (Plaza Level), 400 7th Street, SW., Washington, DC 20590. All written communications concerning these proceedings are available for examination during regular business hours (9 a.m.-5 p.m.) at the above facility. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78). The Statement may also be found at http://dms.dot.gov.

Issued in Washington, DC on August 10, 2005.
Grady C. Cothen, Jr.,
Deputy Associate Administrator for Safety Standards and Program Development.

[FR Doc. 05-16152 Filed 8-15-05; 8:45 am]

BILLING CODE 4910-06-P